DEPARTMENT OF AGRICULTURE

Submission for OMB Review; Comment Request

October 29, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Impact of Implementation of the Affordable Care Act (ACA) on SNAP Operations and Participation.

OMB Control Number: 0584—NEW.

Summary of Collection: The Food and Nutrition Service (FNS) seeks approval to conduct a new information data collection to access the impact of implementation of the Affordable Care Act (ACA) on Supplemental Nutrition Assistance Program (SNAP) operations and participation. This issue has major significance not only in its implications for Federal and state budgets, but also more generally for the economic well-being of American's adult workers and their families. Section 17 [7 U.S.C. 2026] (a)(1) of the Food and Nutrition Act of 2008 provides general legislative authority for the planned data collection.

Need and Use of the Information: This study will assess the impact of ACA implementation on SNAP participation specifically among nonelderly nondisabled adults aged 19 to 64. ACA could potentially have a profound impact on SNAP participation among this group of people in many ways. The main research objectives for this study are grouped into the following three categories: (1) Describe the coordination of SNAP and Medicaid enrollment and renewal processes in the state and whether this changes due to ACA; (2) Describe the process of directing Medicaid applicants to SNAP; and (3) Determine the impact of ACA implementation on the number of SNAP applications. If the data collection in this study is not conducted, those responsible at the Federal, state and local levels for designing and implementing SNAP and Medicaid policies and procedures will not have the value of this research in making their decisions on matters affecting potential cost-saving coordination and integration between the two programs.

Description of Respondents: Individuals or households; Not-for-profit institutions; State, Local or Tribal Government.

Number of Respondents: 121.

Frequency of Responses: Reporting: Annually.

Total Burden Hours: 915.

Ruth Brown,
Departmental Information Collection Clearance Officer.

[FR Doc. 2013-26131 Filed 10-31-13; 8:45 am]

BILLING CODE 3410-30-P